COMMITTEE FOR PURCHASE FROM PEOPLE WHO ARE BLIND OR SEVERELY DISABLED

Procurement List; Proposed Addition and Deletions

ACTION: Proposed addition to and deletions from the Procurement List.

SUMMARY: The Committee is proposing to add to the Procurement List a product to be furnished by nonprofit agencies employing persons who are blind or have other severe disabilities, and to delete a product and services previously furnished by such agencies.

Comments Must be Received on or Before: April 20, 2008.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail: CMTEFedReg@jwod.gov.

SUPPLEMENTARY INFORMATION: This notice is published pursuant to 41 U.S.C. 47(a)(2) and 41 CFR 51-2.3. Its purpose is to provide interested persons an opportunity to submit comments on the proposed actions.

Addition

If the Committee approves the proposed addition, the entities of the Federal Government identified in this notice for each product or service will be required to procure the product listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the product to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product is proposed for addition to Procurement List for production by the nonprofit agencies listed:

Product

USCG Service/Name Tapes

NSN: 8455-00-NIB-0016—Name Tapes.

NSN: 8455-00-NIB-0017—Service Tapes.

NPA: Lions Industries for the Blind, Inc., Kinston, NC.

Coverage: C—List for the requirements of the U.S. Coast Guard, Woodbine, NJ.

Contracting Activity: U.S. Coast Guard, Uniform Distribution Center, Woodbine, NJ.

Deletions

Regulatory Flexibility Act Certification

I certify that the following action will not have a significant impact on a substantial number of small entities. The major factors considered for this certification were:

1. If approved, the action should not result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

Comments on this certification are invited. Commenters should identify the statement(s) underlying the certification on which they are providing additional information.

End of Certification

The following product and services are proposed for deletion from the Procurement List:

Product

Hydration On-the-Move System

NSN: 8465-00-NIB-0071—Bravo Woodland.

NSN: 8465-00-NIB-0072—Bravo Desert.

NSN: 8465-00-NIB-0073—Bravo Black.

NSN: 8465-00-NIB-0074—Delta Woodland.

NSN: 8465-00-NIB-0075—Delta Desert.

NSN: 8465-00-NIB-0076—Delta Black.

NSN: 8465-00-NIB-0077—Alpha Woodland.

NSN: 8465-00-NIB-0092—Warrior Woodland.

NSN: 8465-00-NIB-0093—Warrior Desert.

NSN: 8465-00-NIB-0094—Warrior Black.

NSN: 8465-00-NIB-0095—Sierra Woodland.

NSN: 8465-00-NIB-0096—Sierra Desert.

NPA: The Lighthouse for the Blind, Inc. (Seattle Lighthouse), Seattle, WA.

Contracting Activity: General Services Administration, Office Supplies & Paper Products Acquisition Ctr, New York, NY.

Services

Service Type/Location: Custodial Services, Social Security Administration, 2401 Lind Street, Quincy, IL.

NPA: Transitions of Western Illinois, Inc., Quincy, IL.

Contracting Activity: General Services Administration, Public Buildings Service, Region 5, Chicago, IL.

Service Type/Location: Janitorial/Custodial Services, U.S. Federal Building and Post Office, Wenatchee, WA.

NPA: Northwest Center, Seattle, WA.

Contracting Activity: General Services Administration, Public Buildings Service, Region 10.

Kimberly M. Zeich,
Director, Program Operations.

[FR Doc. E8-5766 Filed 3-20-08; 8:45 am]

BILLING CODE 6353-01-P